DEPARTMENT OF AGRICULTURE

Forest Service

Revision of Land Management Plans, Colville, Okanogan and Wenatchee National Forests, Located in Central WA

AGENCY: Forest Service, USDA.

ACTION: Notice of adjustment to Federal Register Notice of Vol. 69, No. 46, p. 10974, March 9, 2004, and transition to the 2005 Planning Rule at 36 CFR 219 (Federal Register Vol. 70, No.3/January 5, 2005, p. 1023).

Authority: 36 CFR 219.14(e).

SUMMARY: The Responsible Officials (Forest Supervisors) for the Colville National Forest and the Okanogan and Wenatchee National Forests will exercise their option to adjust the land management plan revision process from compliance with the 1982 planning regulations, to conformance with new planning regulations adopted in January 2005. This adjustment will have the following effects:

1. The new rule redefines forest plans to be more strategic and flexible to better facilitate adaptive management and public collaboration.

2. The new rule focuses more on the goals of ecological, social, and economic sustainability and less on prescriptive means of producing goods and services.

3. The Responsible Official who will approve the final plan will now be the Forest Supervisor instead of the Regional Forester.

4. The Colville National Forest and the Okanogan and Wenatchee National Forests will establish an environmental management system (per ISO 14001:2004(E)) prior to completion of the revised forest plan.

5. Upon completion of final rulemaking, the planning and decision-making process may be categorically excluded from analysis and documentation in an environmental impact statement and record of decision (see draft rule at Federal Register Vol. 70, No. 3, January 5, 2005, p. 1062).

6. The emphasis on public involvement will shift from public comment on a range of alternative plans, to a collaborative process intended to yield a single, broadly supported plan.

7. Administrative review has changed from a post-decision appeals process to a pre-decision objection process.

DATES: Transition to the 2005 Planning Rule is effective immediately upon publication of this notice in the Federal Register.

FOR FURTHER INFORMATION CONTACT: Margaret Hartzell, Plan Revision Team Leader, Colville, Okanogan and Wenatchee National Forests, (509) 826-3275 or e-mail: mhartzell@fs.fed.us; or view our Web site at http://www.fs.fed.us/r6/colville/cow, or mail: Forest Plans Revision Team, 1240 Second Avenue South, Okanogan, WA 98840.

Responsible Officials: James L. Boynton, Forest Supervisor, Okanogan and Wenatchee National Forests, 215 Melody Lane, Wenatchee, WA 98801 and Rick Brazell, Colville National Forest, 765 South Main, Colville, WA 99114.

SUPPLEMENTARY INFORMATION: The Responsible Officials (Forest Supervisors) of the Colville National Forest and the Okanogan and Wenatchee National Forests have elected to transition the previously initiated Land and Resource Management Plan (Plan) Revisions so that they fall under the requirements of the 2005 Planning Rule. The Plan Revision will be conducted in accordance with all Forest Service directive applicable to the 2005 Planning Rule.

All three proclaimed units (Colville, Okanogan and Wenatchee) have their own current Plan. As part of the Revision Process, the Responsible Officials will revise all three Plans. Revised Forest Plans are expected to be approved in September 2006.

The public will be invited to collaborate during the development of each revised Plan. Options for the public include any of the following methods: (1) Reviewing and commenting on the materials posted on our Web site, (2) attending open house meetings, (3) requesting planning team presentations to specific groups, (4) newsletters, (5) participating in collaborative dialogue in working groups, or (6) providing input during formal comment periods. Public participation and collaborative work on this planning process has occurred since January 2003. This and other planning process details are available for review on the Web site.

Dated: November 3, 2005.
James L. Boynton,
Forest Supervisor, Okanogan and Wenatchee National Forests.
Dated: October 27, 2005.
Rick Brazell,
Forest Supervisor, Colville National Forest.

[FR Doc. 05-22434 Filed 11-9-05; 8:45 am]

BILLING CODE 3410-11-M